DEPARTMENT OF HOMELAND SECURITY

Office of the Secretary

6 CFR Part 126

[Docket No. DHS-2022-0039]

RIN 1601-AB09

Procedures of the Transportation Security Oversight Board Review Panel Concerning Federal Aviation Administration Airman Certificates; Correction

AGENCY: Office of the Secretary, DHS.

ACTION: Final rule; correction.

SUMMARY: In a final rule published March 12, 2024, DHS codified the procedures that apply to appeals before the Transportation Security Oversight Board concerning Federal Aviation Administration Airmen Certificates. The rule misstated the editorial action taking place. This document corrects that error.

DATES: This correction is effective May 13, 2024.

FOR FURTHER INFORMATION CONTACT: Randall Kaplan, Attorney, Office of the General Counsel, Department of Homeland Security, Washington, DC 20528-0485. PHONE: 202 282-9822.

SUPPLEMENTARY INFORMATION: In the final rule published March 12, 2024, at 89 FR 17693, DHS amended 6 CFR chapter 1 by revising part 126. However, the words of issuance instructing the amendment erroneously stated the Department is adding part 126. Part 126 already exists, and therefore the instruction should have been that the Department is revising it.

Correction

In FR Rule Doc. No. 2024-05131 appearing on page 17693 in the Federal Register of Tuesday, March 12, 2024, the following correction is made:

1. On page 17702, in the third column under the heading “The Amendments,” the words of issuance “For the reasons set forth in the preamble, the Department of Homeland Security adds part 126 to Title 6, Code of Federal Regulations, to read as follows:” is corrected to read “For the reasons set forth in the preamble, the Department of Homeland Security revises part 126 to Title 6, Code of Federal Regulations, to read as follows:”.

Christina E. McDonald,
Associate General Counsel for Regulatory Affairs, U.S. Department of Homeland Security.

[FR Doc. 2024-08530 Filed 4-24-24; 8:45 am]

BILLING CODE 9110-9B-P